DEPARTMENT OF HOMELAND SECURITY

Coast Guard

33 CFR Part 100

[Docket No. USCG-2008-0323]

Notice of Enforcement of Regulation

AGENCY: Coast Guard, DHS.

ACTION: Notice of enforcement of regulation.

SUMMARY: The Coast Guard will enforce a safety zone for the Weymouth 4th of July fireworks event. This action is to ensure the safety of life and protection of property during the fireworks event. During the enforcement period, no person or vessel may enter the safety zone without permission of the Captain of the Port Boston.

DATES: For the special local regulations described in 33 CFR 100.114, Fireworks Display Table entry 7.11, the zone will be enforced on June 28, 2008.

FOR FURTHER INFORMATION CONTACT: Chief Eldridge McFadden at phone number 617-223-3000.

SUPPLEMENTARY INFORMATION: The Coast Guard will enforce the special local regulation in 33 CFR 100.114 for the annual Weymouth 4th of July Fireworks on June 28, 2008, from 9 p.m. through 11 p.m.

Under the provisions of 33 CFR 100.114, a vessel may not enter the regulated area, unless it receives permission from the COTP. Additionally, no person or vessel may enter or remain within 500 yards around the fireworks barge. Spectator vessels may safely transit outside the regulated area but may not anchor, block, loiter in, or impede the transit of ship parade participants or official patrol vessels. The Coast Guard may be assisted by other Federal, State, or local law enforcement agencies in enforcing this regulation.

This notice is issued under authority of 33 CFR 100.114 and 5 U.S.C. 552(a). In addition to this notice in the Federal Register, the Coast Guard will provide the maritime community with extensive advance notification of this enforcement period via the Local Notice to Mariners. If the COTP determines that the regulated area need not be enforced for the full duration stated in this notice, he or she may use a Broadcast Notice to Mariners to grant general permission to enter the regulated area.

Dated: May 6, 2008.
G.P. Kulisch,
Captain, U.S. Coast Guard, Captain of the Port Boston.

[FR Doc. E8-10804 Filed 5-14-08; 8:45 am]

BILLING CODE 4910-15-P